FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010979-055.

Title: Caribbean Shipowners Association.

Parties: CMA CGM, SA; Seaboard Marine, Ltd.; Seafreight Line, Ltd.; Tropical Shipping and Construction Company Limited; and Zim Integrated Shipping Services, Ltd.

Filing Party: Wayne R. Rohde, Esq.; Cozen O'Connor, 1627 I Street NW., Suite 1100, Washington, DC 20006-4007.

Synopsis: The amendment would add Hybur Ltd. as a party to the agreement.

Agreement No.: 012172-001.

Title: Maersk Line/MSC Caribbean Space Charter Agreement.

Parties: A.P. Moller-Maersk A/S trading under the name Maersk Line and Mediterranean Shipping Company S.A.

Filing Party: Wayne R. Rohde, Esquire; Cozen O'Connor; 1627 I Street NW., Suite 1100, Washington, DC 20006-4007.

Synopsis: The amendent would revise the agreement to provide for the chartering of additional space from Caucedo to San Juan.

Agreement No.: 011960-009.

Title: The New World Alliance Agreement.

Parties: American President Lines, Ltd.; APL Co. Pte Ltd.; Hyundai Merchant Marine Co., Ltd.; and Mitsui O.S.K. Lines, Ltd. (“MOL”).

Filing Parties: Eric Jeffrey, Esq., Goodwin Procter LLP, 901 New York Ave. NW., Washington, DC 20001.

Synopsis: The amendment would delete Malta, Spain, and Italy from the geographic scope of the agreement, eliminate authority regarding vessel strings operated pursuant to the G6 Alliance Agreement, and update and clarify other aspects of the agreement.

Dated: April 26, 2013.
By Order of the Federal Maritime Commission.
Rachel E. Dickon,
Assistant Secretary.

[FR Doc. 2013-10314 Filed 4-30-13; 8:45 am]

BILLING CODE 6730-01-P